DEPARTMENT OF TRANSPORTATION

National Highway Traffic Safety Administration

[Docket No. NHTSA-2022-0052]

Advisory Committee on Underride Protection

AGENCY: National Highway Traffic Safety Administration (NHTSA), Department of Transportation (DOT).

ACTION: Solicitation of nominations for appointment to the advisory committee on Underride Protection (ACUP).

SUMMARY: NHTSA is soliciting applications for appointment to the U.S. Department of Transportation's (DOT) ACUP. The purpose of ACUP is to provide advice and recommendations to the Secretary of Transportation on safety regulations to reduce underride crashes and fatalities relating to underride crashes.

DATES: Applications for membership must be received by NHTSA on or before 5 p.m. EST, August 5, 2022.

ADDRESSES: If you wish to apply for membership, your application should be submitted to:

• Email: ACUP@dot.gov.

• Mail: Use only overnight mail and send to: U.S. Department of Transportation, National Highway Traffic Safety Administration, Office of Rulemaking, Attn: ACUP, 1200 New Jersey Avenue SE, NRM-130, Washington, DC 20590.

The ACUP charter can be found in the docket to this notice.

FOR FURTHER INFORMATION CONTACT: James Myers, Chief, Special Vehicles and Systems Division, Office of Rulemaking, National Highway Traffic Safety Administration, U.S. Department of Transportation, James.Myers@dot.gov or 202-493-0031. Any committee related questions should be sent to the person listed in this section.

SUPPLEMENTARY INFORMATION:

Background

ACUP is established pursuant to Section 23011(d) of the Bipartisan Infrastructure Law (BIL), enacted as the Infrastructure Investment and Jobs Act, Public Law 117-58, which requires the creation of an advisory committee on underride protection, and in accordance with the Federal Advisory Committee Act, 5 U.S.C. app. 2. ACUP provides information, advice, and recommendations to the Secretary of Transportation on safety regulations to reduce underride crashes and fatalities relating to underride crashes.

Description of Duties

The Committee shall act solely in an advisory capacity. Duties include the following:

a. Gather information as necessary to discuss issues presented by the Designated Federal Officer (DFO).

b. Deliberate on issues relevant to safety regulations related to underride crashes and fatalities from underride crashes.

c. Provide written consensus advice to the Secretary on underride protection to reduce underride crashes and fatalities relating to underride crashes.

d. Submit to the Committee on Commerce, Science, and Transportation of the Senate and the Committee on Transportation and Infrastructure of the House of Representatives a biennial report that—

i. describes the advice and recommendations made to the Secretary; and

ii. includes an assessment of progress made by the Secretary in advancing safety regulations relating to underride crashes.

Membership

In accordance with BIL, ACUP will comprise not more than 20 members who are qualified to serve on the Committee because of their expertise, training, or experience. The Committee shall include two representatives from each of the following categories:

• Truck and trailer manufacturers.

• Motor carriers, including independent owner-operators.

• Law enforcement.

• Motor vehicle engineers.

• Motor vehicle crash investigators.

• Truck safety organizations.

• The insurance industry.

• Emergency medical service providers.

• Families of underride crash victims.

• Labor organizations.

To ensure the recommendations of the Committee have considered the needs of diverse groups served by the Department, the membership of the Committee shall, to the extent practicable, include persons with lived experience and knowledge of the needs of underrepresented groups with regard to race, ethnicity, religion, disability, sexual orientation, gender identity, and other factors.

The Secretary of Transportation shall appoint each member for the duration of the charter, which is 2 years, unless otherwise renewed in accordance with FACA. The Secretary may reappoint a member or terminate any member's tenure at his discretion. The Secretary may extend appointments and may appoint replacements for members who have resigned outside a stated term, as necessary. If a member's status as a representative of an identified category materially changes after appointment, the member's representative status will be terminated, unless certain requirements are met. These requirements include the following: (1) continued active involvement in the identified category, (2) the concurrence by the NHTSA Administrator with the representative's continued participation, (3) the member's continued participation is consistent with applicable statutory authorities and Presidential directives, and the (4) the member's continued participation is deemed essential for the fulfillment of the committee's mission.

ACUP members will not receive pay or other compensation from NHTSA for their ACUP service, but are entitled to reimbursement of their travel expenses, including per diem. The ACUP shall meet at least once a year.

Qualifications

Members will be selected for their expertise, training, or experience and their ability to represent one of the identified categories.

Materials To Submit

Qualified individuals interested in serving on the ACUP are invited to apply for appointment by submitting a resume or curriculum vitae along with letters of recommendation to one of the locations listed in the ADDRESSES section by the deadline listed in the DATES section. Please include your full legal name and date of birth in your application. Each applicant must identify the category that he or she seeks to represent. Nominations are open to all individuals without regard to race, color, religion, sex, national origin, age, mental or physical disability, marital status, or sexual orientation. Evaluations will be based on the materials submitted.

Authority: Issued under authority in 49 CFR 1.95 and 501.8.

Raymond R. Posten,
Associate Administrator for Rulemaking.

[FR Doc. 2022-14329 Filed 7-5-22; 8:45 am]

BILLING CODE 4910-59-P